DEPARTMENT OF THE INTERIOR

Bureau of Land Management.

[LLES960000 L14400000.BJ0000]

Eastern States: Filing of Plat of Survey; Mississippi

AGENCY: Bureau of Land Management, Interior.

ACTION: Notice.

SUMMARY: The Bureau of Land Management (BLM) will file the plat of survey of the lands described below in the BLM-Eastern States office in Washington, District of Columbia, 30 calendar days from the date of publication in the Federal Register.

FOR FURTHER INFORMATION CONTACT: Bureau of Land Management—Eastern States, 20 M Street SE., Washington, District of Columbia 20003, Attn: Dominica Van Koten. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The survey was requested by the Bureau of Indian Affairs.

The lands surveyed are:

Choctaw Meridian, Mississippi

T. 7 N., R. 10 E.

The dependent resurvey and subdivision of Section 8, 9, and 17 in Township 7 North, Range 10 East, of the Choctaw Meridian, in the State of Mississippi, and was accepted August 31, 2016.

Copies of the described plat will be placed in the open file. It will be available to the public as a matter of information.

If a protest is received against the survey, as shown on the plat, prior to the date of the official filing, the filing will be postponed pending our consideration of the protest.

The plat will not be officially filed until the day after the protest is accepted or dismissed and has become final, including decisions on appeals.

Dated: December 2, 2016.
Dominica Van Koten,
Chief Cadastral Surveyor.

[FR Doc. 2016-29405 Filed 12-7-16; 8:45 am]

BILLING CODE 4310-GJ-P